DEPARTMENT OF AGRICULTURE

Submission for OMB Review; Comment Request

April 9, 2003

The Department of Agriculture has submitted the following information collection requirements(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Cooperative State Research, Education, and Extension Service

Title: CSREES Proposal Review Process.

OMB Control Number: 0524-NEW.

Summary of Collection: This information collection is authorized under 7 CFR Section 3015.158, which governs competition in the awarding of discretionary grants and cooperative agreements. These regulations set forward the standard that proposals are to be evaluated objectively by independent reviewers in accordance with written criteria set forth by the awarding agency. The Cooperative State Research, Education, and Extension Service (CSREES) will collect information using the “Proposal Review Sheet” or the “Reviewer Worksheet”.

Need and Use of the Information: CSREES will collect information to ensure that proposals are of high quality and are consistent with the goals and requirements of the funding program. CSREES uses the results of the proposal evaluation to determine whether a proposal should be declined or recommended for award. If the information is not collected, it would be difficult for a review panel and CSREES staff to determine which projects warrant funding.

Description of Respondent: Not-for-profit institutions; Business or other for-profit; Individuals or households; Federal Government; State, Local or Tribal Government.

Number of Respondents: 4,520.

Frequency of Responses: Reporting: On occasion.

Total Burden Hours: 113,000.

National Agricultural Statistics Service

Title: Vegetable Survey.

OMB Control Number: 0535-0037.

Summary of Collection: The primary function of the National Agricultural Statistics (NASS) is to prepare and issue current official state and national estimates of crop and livestock production. Vegetable estimates are an integral part of this function. The vegetable program is complex in that some crops are processing only, some are fresh market only, and others are dual crops (both processing and fresh market). Vegetable processors are surveyed the first week of April for their intended acreage of vegetables for processing and the first week of July for acreage contracted. The fresh market vegetable program consists of weekly estimates during the growing season for tomatoes in Florida. NASS will collect information using surveys.

Need and Use of the Information: NASS will collect information to estimate acreage planted and harvested, production, price, and utilization for the varies crops. The estimates provided vital statistics for growers, processors, and marketers to use in making production and marketing decisions.

Description of Respondents: Farms; Business or other for-profit Dept.

Number of Respondents: 31,391.

Frequency of Responses: Reporting: Annually; Other (seasonally).

Total Burden Hours: 5,021.

Foreign Agricultural Service

Title: Foreign Market Development Cooperator Program and the Market Access Program.

OMB Control Number: 0551-0026.

Summary of Collection: The authority for the Foreign Market Development Cooperator Program and the Market Access Program (MAP) is contained in Title VII and section 203 of the Agricultural Trade Act of 1978, U.S.C. 5721, et. seq. The primary objective of the Foreign Market Development Cooperator Program and the Market Access Program is to encourage and aid in the creation, maintenance and expansion of commercial export markets for U.S. agricultural products through cost-share assistance to eligible trade organizations. Personnel of the Foreign Agricultural Service (FAS) administer the programs. Prior to initiating program activities, each Cooperator or MAP participant must submit a detailed application to FAS.

Need and Use of the Information: FAS will collect information to manage, plan, evaluate, and account for government resources. Without the submission of information, the programs could not be implemented.

Description of Respondents: Not-for-profit institutions; State, Local, or Tribal government.

Number of Respondents: 71.

Frequency of Responses: Recordkeeping; Reporting: Annually.

Total Burden Hours: 91,070.

Risk Management Agency

Title: New Crop Insurance Programs (pilot and private crop insurance policies).

OMB Control Number: 0563-0057.

Summary of Collection: The Federal Corp Insurance Act (ACT), as amended in 1994, 1996, 1998, and 2000 expanded the role of the crop insurance program to be the principal tool for risk management by producers of farm products, provided for independent review of crop insurance products, and gave contracting authority for the development of new products. The expansion mission of the Risk Management Agency (RMA) is to meet the obligation of mandatory program development and to expand the current program to provide risk management products to the greatest number of people covering the greatest dollar value of commodities. RMA prepares the crop insurance policy provisions, underwriting guidelines, actuarial documents, and loss adjustment standards. Producers are required to report specific data when applying for crop insurance. The information supplied must be accurate and complete so insurance companies and Federal Crop Insurance corporation (FCIC) can determine liability, subsidy premium, and the amount of indemnity and is necessary for administering the crop insurance program. The FCIC is the only Federal agency that administers crop insurance.

Need and Use of the Information: RMA will collect information indicating the crop, type, variety, and practice that will be insured in the state and county along with the premium rates and crop price elections that will be available. The information is used to determine liability and premium. The information collected will be used Federal Agencies, RMA, crop insurance companies reinsured by FCIC, and other agencies that require such information in the performance of their duties. If the information collected is not submitted by the specified dates, the producer may not have insurance coverage.

Description of Respondents: Farms; Business or other for-profit.

Number of Respondents: 14,496.

Frequency of Responses: Recordkeeping; Reporting: Weekly; Monthly; Semi-Annually; Annually.

Total Burden Hours: 13,113.

Rural Utilities Service

Title: 7 CFR 1730, Review Rating Summary.

OMB Control Number: 0572-0025.

Summary of Collection: The Rural Utilities Service (RUS) manages loan programs in accordance with the Rural Electrification Act (RE Act) of 1936, 7 U.S.C. 901 et seq., as amended. An important part of safeguarding loan security is to see that RUS financed facilities are being responsible used, adequately operated, and adequately maintained. Future needs have to be anticipated to ensure that facilities will continue to produce revenue and that loans will be repaid as required by the RUS mortgage. Regular periodic operations and maintenance (O&M) review can identify and correct inadequate O&M practices before they cause extensive harm to the system. Inadequate O&M practices can result in public safety hazards, increased power outages for consumers, added expense for emergency maintenance, and premature aging of the borrower's systems, which could increase the loan security risk to RUS. RUS will collect information using form 300 Review Rate Summary.

Need and Use of the Information: RUS will collect information to identity items that may be in need of additional attention; to plan corrective actions when needed; to budget funds and manpower for needed work; and to initiate ongoing programs as necessary to avoid or minimize the need for “catch-up” programs.

Description of Respondents: Not-for-profit institutions; Business or other for-profit.

Number of Respondents: 229.

Frequency of Responses: Reporting: On occasion.

Total Burden Hours: 916.

Rural Utilities Service

Title: RUS Specification for Quality Control and Inspection of Timber Products.

OMB Control Number: 0572-0036.

Summary of Collection: The Rural Utilities Service (RUS) is a credit agency of the U.S. Department of Agriculture (USDA). It makes mortgage loans and loan guarantees to finance electric, telecommunications, and water and waste facilities in rural areas. Loan programs are managed in accordance with the Rural Electrification Act (RE Act) of 1936, 7 U.S.C. 901 et seq., as amended.

Need and Use of the Information: RUS will use the information in verifying acceptability of poles and crossarms purchased by RUS borrowers. Each year, RUS borrowers are required to submit an Annual Summary of Purchases that provides a list of plants from which it obtained poles or crossarms during the preceding calendar year and Treaters must provide notification that they will treat poles for the upcoming year. Test reports are needed so that the purchaser, the inspectors, and RUS will be able to spot-check the general accuracy of the tests.

Description of Respondents: Business or other for-profit; Not-for-profit institutions.

Number of Respondents: 700.

Frequency of Responses: Reporting: On occasion.

Total Burden Hours: 40,763.

Rural Utility Service

Title: 7 CFR 1773, Policy on Audits of RUS Borrowers.

OMB Control Number: 0572-0095.

Summary of Collection: Under the authority of the Rural Electrification Act of 1936 (ACT), as amended 7 U.S.C. 901 et seq., the Administrator is authorized and empowered to make loans under certain specified circumstances for the purpose of furnishing and improving telephone service in rural areas. RUS, in representing the Federal Government as Mortgagee, relies on the information provided by the borrowers in their financial statements to make lending decisions as to borrowers' credit worthiness and to assure that loan funds are approved, advanced and disbursed for proper Act purposes. Borrowers are required to furnish a full and complete report of their financial condition, operations and cash flows, in form and substance satisfactory to RUS.

Need and Use of the Information: RUS will collect information to evaluate borrowers' financial performance, determine whether current loans are at financial risk, and determine the credit worthiness of future losses. If information were not collected, it would delay RUS' analysis of the borrowers' financial strength, thereby adversely impacting current lending decisions.

Description of Respondents: Not-for-profit institutions; Business or other for-profit.

Number of Respondents: 1,500.

Frequency of Responses: Reporting: On occasion.

Total Burden Hours: 16,677.

Rural Housing Service

Title: Form RD 410-8, Application Reference Letter (A Request for Credit Reference).

OMB Control Number: 0575-0091.

Summary of Collection: Form RD 410-8, Applicant Reference Letter, provides credit information and is used by Rural Housing Service (RHS) to obtain information about an applicant's credit history that might not appear on a credit report. It can be used to document an ability to handle credit effectively for applicants who have not used sources of credit that appear on a credit report. The form provides RHS with relevant information about the applicant's creditworthiness and is used to make better decisions.

Need and use of the Information: RHS will collect information to supplement or verify other debts when a credit report is limited and unavailable to determine the applicant's eligibility and creditworthiness for RHS loans and grants.

Description of Respondents: Business or other for-profit.

Number of Respondents: 10,000.

Frequency of Responses: Reporting: On occasion.

Total Burden Hours: 1,000.

Animal and Plant Health Inspection Service

Title: 9 CFR 160-162, Veterinary Accreditation Program.

OMB Control Number: 0579-0032.

Summary of Collection: Title 21, U.S.C. authorizes sections 111, 114, 114a, 114-1, 115, 120, 121, 125, 126, 134a, 134c, 134f, and 134g. These authorities permit the Secretary to prevent, control and eliminate domestic diseases such as brucellosis and tuberculosis, as well as to take action to prevent and to manage exotic diseases such as foot-and-mouth and rinderpest. Diseases prevention is the most effective method for maintaining a healthy animal population and enhancing the Animal and Plant Health Inspection Service's (APHIS) ability to complete in exporting animals and animal products. Because APHIS does not have sufficient numbers of Federal personnel to perform all of the disease prevention work that must be done, APHIS relies heavily on assistance from veterinarians in the private sector. Regulations governing the Veterinary Accreditation Program are found in Title 9 of the Code of Federal Regulations, parts 160, 161, and 162. Operating this important program requires APHIS to engage in a number of information collection activities in the form of applications for veterinary accreditation, veterinary accreditation orientation and training, paperwork associated with tasks performed by our accredited veterinarians (such as completing certificates, applying and removing official seals, and completing test reports); reviewing applications for veterinary accreditation and re-accreditation, recordkeeping, and updating information on accredited veterinarians. APHIS will collect information using several forms.

Need and Use of the Information: APHIS will collect information to determine that a veterinarian has met the requirements for being accredited, or for obtaining re-accreditation. APHIS will also collect information to ensure that accredited veterinarians are knowledgeable of current Federal and State animal health regulations, objectives and programs and are competent in their application. If information is not collected it would significantly destroy APHIS' ability to operate the Veterinary Accreditation Program.

Description of Respondents: Business or other for-profit; State, Local and Tribal Government.

Number of Respondents: 88,244.

Frequency of Responses: Recordkeeping; Reporting: On occasion; Annually.

Total Burden Hours: 63,031.

Agricultural Marketing Service

Title: Fruit and Vegetable Market News Reports.

OMB Control Number: 0581-0006.

Summary of Collection: Section 203(g) of the Agricultural Marketing Act of 1946 (7 U.S.C. 1621) directs and authorizes the collection of information and disseminating of marketing information including adequate outlook information on a market-area basis for the purpose of anticipating and meeting consumer requirements, aiding in the maintenance of farm income and bring about balance between production and utilization of agriculture products. Market News provides all interested segments of the market chain with market information tends to equalize the competitive position of all market participants. The fruit and vegetable industries, through their organizations, or government agencies present formal requests that the Department of Agriculture issue daily, weekly, semi-monthly, or monthly market news reports on various aspects of the industry.

Needs and Use of the Information: AMS will collect information for the production of Market News reports that are then available to the industry and other interested parties in various formats. Information is provided on a voluntary basis and is gathered through confidential telephone and face-to-face interviews by market reporters.

Description of Respondents: Farms; Business or other for-profit.

Number of Respondents: 18,347.

Frequency of Response: Reporting; Weekly; Monthly.

Total Burden Hours: 120,964.

Food and Nutrition Service

Title: Food Stamp Employment and Training (E & T) Program Activity Report.

OMB Control Number: 0584-0339.

Summary of Collection: The Balanced Budget Act of 1997 (Pub. L. 105-33), enacted on August 5, 1997, modified the Employment and Training (E&T) Program so that States' efforts are now focused on a particular segment of the food stamp population—able-bodied adults without dependents (ABAWDs). Section 6(d) of the Foot Stamp Act of 1977 and 7 CFR 273.7 require as a condition of eligibility each food stamp household members not exempt shall be registered for employment by the State agency at the time of application and once every twelve months thereafter. This requirement pertains to non-exempt food stamp household member age 16 to 60. Each State agency must screen each work registrant to determine whether to refer the individual to its E&T Program. States' E&T Programs are federally funded through an annual E&T grant. Both the Food Stamp Act and regulations require States to file quarterly reports about their E&T Programs so that the Food and Nutrition Service (FNS) can monitor their performance.

Need and Use of the Information: FNS will collect quarterly reports about their E&T programs so that the Department can monitor State performance to ensure that the program is being efficiently and economically operated. Without the information FNS would be unable to make adjustments or allocate exemptions in accordance with the statute.

Description of Respondents: State, Local, or Tribal Government.

Number of Respondents: 53.

Frequency of Response: Reporting; Quarterly; Annually.

Total Burden Hours: 29,455.

Forest Service

Title: Baseline and Trend Information on Wilderness Use and Users.

OMB Control Number: 0596-0108.

Summary of Collection: The Wilderness Act (Pub. L. 88-577) directs that wilderness be managed to preserve natural conditions and to provide outstanding opportunities for solitude or a primitive and unconfined type of recreation. To meet these management goals, managers must adapt their programs to changes in the amount and type of use and resultant conditions. It is also important for managers to be aware of likely visitor response to proposed management actions and their preferences for resource conditions. Very little is known about trends in the characteristics, activities and preferences of visitors to wilderness and other wildlands. The Forest Service (FS) will collect information using mail back survey forms, face-to-face and on-site interviews to establish usage baselines and monitor trends in some areas for critical use and user characteristics for representatives Forest Service wilderness area.

Need and Use of the Information: FS will collect information from visitors to find out how many times they visit, when they plan their next visit, or if they plan to visit at all. Visitors will be asked, when visiting, if they come in groups, and if so, the size of those groups and how long they stay when visiting. Also, visitors will be asked do they use equipment such as stoves, wood for fires and do they have preferences for social conditions? If the information is not collected FS will have no basis for making management decisions and establishing policy for guiding wilderness management in general.

Description of Respondents: Individuals or households.

Number of Respondents: 1,000.

Frequency of Responses: Reporting: On occasion.

Total Burden Hours: 416.

Rural Development

Title: Rural Empowerment Zones and Enterprise Communities (Ongoing Reporting Requirements).

OMB Control Number: 0570-0027.

Summary of Collection: The Community Renewal Tax Relief Act of 2000 extends the duration for all Empowerment Zone through December 2009. The Rural Empowerment Zones and Enterprise Communities program (EZ/EC) provides economically depressed rural areas and communities with opportunities for growth and revitalization. USDA has designated 120 Champion communities from the EZ/EC applicant communities that have agreed to implement their strategic plans in accordance with the principles of the program and report regularly on their progress.

Need and Use of the Information: Periodic reviews provide the basis for USDA to continue or revoke a designation during the life of the federal program. These reports provide progress on each project that the designee has specified in their implementation plans. A warning letter may be sent to recipients who have been regarded as noncompliance or have made insufficient progress in implementing the strategic plan.

Description of Respondents: State, Local or Tribal Government.

Number of Respondents: 178.

Frequency of Responses: Reporting: On occasion.

Total Burden Hours: 3,762.

Sondra Blakey,
Departmental Information Collection Clearance Officer.

[FR Doc. 03-9174 Filed 4-14-03; 8:45 am]

BILLING CODE 3410-01-M